FEDERAL DEPOSIT INSURANCE CORPORATION

Withdrawal of Determination of Insufficient Assets To Satisfy Claims Against Financial Institution in Receivership

AGENCY: Federal Deposit Insurance Corporation (FDIC).

ACTION: Notice.

SUMMARY: The FDIC has withdrawn and set aside its determination that insufficient assets exist in the receivership of Colonial Bank, Montgomery, Alabama, to make any distribution on general unsecured claims and that such claims have no value.

DATES: The FDIC withdrew its determination on June 4, 2014.

FOR FURTHER INFORMATION CONTACT: If you have questions regarding this notice, you may contact an FDIC Claims Agent at (972) 761-8677. Written correspondence may also be mailed to FDIC as Receiver of Colonial Bank, Attention: Claims Agent, 1601 Bryan Street, Dallas, Texas 75201.

SUPPLEMENTARY INFORMATION: On April 15, 2013, the FDIC determined that the assets of Colonial Bank, Montgomery, Alabama, were insufficient to make any distribution on general unsecured claims, and that such claims therefore had no value. Notice of the determination was published in the Federal Register on April 19, 2013. 78 FR 23565. The FDIC has now withdrawn its determination because the Receivership's theoretically possible recoveries have been revised upward as a result of changed circumstances and could possibly exceed the previously calculated $1.698 billion deficit, which in turn could possibly result in payment on non-deposit claims under the most favorable circumstances.

Dated: At Washington, DC, June 4, 2014.
Federal Deposit Insurance Corporation.
Robert E. Feldman,
Executive Secretary.

[FR Doc. 2014-13423 Filed 6-9-14; 8:45 am]

BILLING CODE 6714-01-P